FEDERAL COMMUNICATIONS COMMISSION

[OMB 3060-XXXX, OMB 3060-0400; FR ID 138566]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before June 2, 2023.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Freedom of Information/Privacy Act Request.

Form Number: N/A.

Type of Review: New information collection.

Respondents: Individuals or Households, Business or other for-profit, and Not-for-profit institutions, Federal Government, State, Local or Tribal Government.

Number of Respondents and Responses: 770 respondents; 770 responses.

Estimated Time per Response: 0.08 hours.

Frequency of Response: On occasion reporting requirement.

Obligation to Respond: Voluntary. The statutory authority for this collection of information is contained in 5 U.S.C 552 and 552a.

Total Annual Burden: 62 hours.

Total Annual Cost: $5,124.00.

Needs and Uses: The online form is used to collect information necessary to process a proper FOIA request relating to a subject matter provided by the requester. Freedom of Information Act, 5 U.S.C. 552, details what makes a proper FOIA request. A proper request must include: (1) a reasonable description of the record and (2) is made in accordance with published agency rules stating time, place, fees (if any) and procedures to be followed.

Respondents can request records at any time. The request must describe each requested record in sufficient detail to enable the FCC staff to locate the record. The online form is used to collect requester's information (address, contact information, etc.) and a detailed description of the records sought. The FOIA requester is asked to provide information that would assist the FCC in locating responsive records (if they exist). This information is essential to the accurate search and retrieval of records responsive to FOIA/PA requests. Additionally, the requester may include information, if applicable, about fee categories, fee waivers, and expedited processing.

This form will enhance the quality, utility, and clarity of the information to be collected; and minimize the burden of the collection of information on those responding.

OMB Control Number: 3060-0400.

Title: Part 61, Tariff Review Plan (TRP).

Form Number: N/A.

Type of Review: Extension of a currently approved collection.

Respondents: Business or other for-profit.

Number of Respondents and Responses: 2,747 respondents; 4,148 responses.

Estimated time per response: 0.5-53 hours.

Frequency of Response: One-time, on occasion, annual or biennial reporting requirements, and certification requirement.

Obligation To Respond: Required to obtain or retain benefits. Statutory Authority for this information collection is contained in 47 U.S.C. 201, 202, 203, and 251(b)(5) of the Communications Act of 1934, as amended. See 47 U.S.C. 201, 202 and 203, and 251(b)(5).

Total Annual Burden: 60,576 hours.

Total Annual Cost: No cost.

Needs and Uses: The Commission has developed standardized Tariff Review Plans (TRPs) that set forth the summary material that incumbent LECs (ILECs) file to support revisions to the rates in their interstate access service tariffs. The TRPs display basic data on rate development in a consistent manner, thereby facilitating review of the ILEC rate revisions by the Commission and interested parties. The TRPs have served this purpose effectively in past years.

Federal Communications Commission.
Marlene Dortch,
Secretary, Office of the Secretary.

[FR Doc. 2023-09405 Filed 5-2-23; 8:45 am]

BILLING CODE 6712-01-P